FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Claims of Federal Personnel for Personal Property Loss or Damage.

Type of Information Collection: Extension of a currently approved collection.

OMB Number: 3067-0167.

Abstract: 31 U.S.C 3721 requires FEMA employees who file a claim with the Federal Emergency Management Agency (FEMA) for the loss or damage to personal property to substantiate their claims as a condition of payment by the agency. FEMA personnel provide information to make claims against the agency's substantiation requirements are set forth at 44 CFR 11.76. The information provided by personnel is used by the agency to determine the appropriate disposition and payment of claims.

Affected Public: Federal Government.

Number of Respondents: 7.

Estimated Time per Respondent: 1 hour.

Estimated Total Annual Burden Hours: 7 hours.

Frequency of Response: On occasion.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Section, Program Services and Systems Branch, Facilities Management and Services Division, Administration and Resource Planning Directorate, Federal Emergency Management Agency, 500 C Street, SW., Room 316, Washington, DC 20472, telephone number (202) 646-2625 or facsimile number (202) 646-3347, or e-mail muriel.anderson@fema.gov.

Dated: June 5, 2002.
Reginald Trujillo,
Branch Chief, Program Services and Systems Branch, Facilities Management and Services Division, Administration and Resource Planning Directorate.

[FR Doc. 02-15053 Filed 6-13-02; 8:45 am]

BILLING CODE 6718-01-P